DEPARTMENT OF THE INTERIOR

National Park Service

[NPS-WASO-HAFE-NPS0033248; PPWOWMADL3, PPMPSAS1Y.TD0000 (222): OMB Control Number 1024-0284]

Agency Information Collection Activities; National Park Service Common Learning Portal

AGENCY: National Park Service, Interior.

ACTION: Notice of information collection; request for comment.

SUMMARY: In accordance with the Paperwork Reduction Act of 1995, we, the National Park Service (NPS) are proposing to renew an information collection.

DATES: Interested persons are invited to submit comments on or before May 10, 2022.

ADDRESSES: Please provide a copy of your comments to the NPS Information Collection Clearance Officer (ADIR-ICCO), 12201 Sunrise Valley Drive, (MS -242) Reston, VA 20191 (mail); or phadrea_ponds@nps.gov (email). Please include “1024-0284” in the subject line of your comments.

FOR FURTHER INFORMATION CONTACT: To request additional information about this ICR, contact Ryan Jennings, by email at ryan_jennings@nps.gov, or by telephone at 304-535-5057. Please reference OMB Control Number 1024-0284 in the subject line of your comments. Individuals who are hearing or speech impaired may call the Federal Relay Service at 1-800-877-8339 for TTY assistance.

SUPPLEMENTARY INFORMATION: In accordance with the Paperwork Reduction Act of 1995, (PRA, 44 U.S.C. 3501 et seq.) and 5 CFR 1320.8(d)(1), all information collections require approval under the PRA.

As part of our continuing effort to reduce paperwork and respondent burdens, we invite the public and other Federal agencies to comment on new, proposed, revised, and continuing collections of information. This helps us assess the impact of our information collection requirements and minimize the public's reporting burden. It also helps the public understand our information collection requirements and provide the requested data in the desired format.

We are especially interested in public comment addressing the following:

(1) Whether or not the collection of information is necessary for the proper performance of the functions of the agency, including whether or not the information will have practical utility.

(2) The accuracy of our estimate of the burden for this collection of information, including the validity of the methodology and assumptions used.

(3) Ways to enhance the quality, utility, and clarity of the information to be collected.

(4) How might the agency minimize the burden of the collection of information on those who are to respond, including through the use of appropriate automated, electronic, mechanical, or other technological collection techniques or other forms of information technology, e.g., permitting electronic submission of response.

Comments that you submit in response to this notice are a matter of public record. We will include or summarize each comment in our request to OMB to approve this ICR. Before including your address, phone number, email address, or other personal identifying information in your comment, you should be aware that your entire comment—including your personal identifying information—may be made publicly available at any time. While you can ask us in your comment to withhold your personal identifying information from public review, we cannot guarantee that we will be able to do so.

Abstract: The NPS is authorized by Service Employee Training (54 U.S.C. 101321) and Management Development and Training (54 U.S.C. 101322) to maintain the Common Learning Portal (CLP). As an online training platform for NPS employees and public users, the CLP website serves as a centralized repository of national, regional, and park specific training opportunities and programs offered by the NPS. The CLP provides instructional videos, access to subject matter experts and establishes communities of learning for non NPS employees. The public may visit the CLP website to learn about upcoming training events without creating a user account. However, users must register for an account. The purpose of this information collection is to register users of the CLP website. The information we collect as part of the registration process enables non-NPS persons to participate in community forums and discussions and to interact with others within the community. Registering for an account requires the user provide their name, email address, and username.

Title of Collection: National Park Service Common Learning Portal.

OMB Control Number: 1024-0284.

Form Number: None.

Type of Review: Extension of a currently approved collection.

Respondents/Affected Public: Individuals (non-federal employees).

Total Estimated Number of Annual Respondents: 250.

Total Estimated Number of Annual Responses: 250.

Estimated Completion Time per Response: 5 minutes.

Total Estimated Number of Annual Burden Hours: 21.

Respondent's Obligation: Voluntary.

Frequency of Collection: One time.

Total Estimated Annual Nonhour Burden Cost: None.

An agency may not conduct or sponsor and a person is not required to respond to a collection of information unless it displays a currently valid OMB control number.

The authority for this action is the Paperwork Reduction Act of 1995 (44 U.S.C. 3501 et seq.).

Phadrea Ponds,
Information Collection Clearance Officer, National Park Service.

[FR Doc. 2022-05133 Filed 3-10-22; 8:45 am]

BILLING CODE 4312-52-P